NATIONAL CREDIT UNION ADMINISTRATION

Submission for OMB Review; Comment Request

AGENCY: National Credit Union Administration (NCUA).

ACTION: Notice.

SUMMARY: The National Credit Union Administration (NCUA) will be submitting the following information collection request to the Office of Management and Budget (OMB) for review and clearance in accordance with the Paperwork Reduction Act of 1995, Public Law 104-13, on or after the date of publication of this notice.

DATES: Comments should be received on or before December 23, 2016 to be assured of consideration.

ADDRESSES: Send comments regarding the burden estimate, or any other aspect of the information collection, including suggestions for reducing the burden, to (1) Office of Information and Regulatory Affairs, Office of Management and Budget, Attention: Desk Officer for NCUA, New Executive Office Building, Room 10235, Washington, DC 20503, or email at OIRA_Submission@OMB.EOP.gov and (2) NCUA PRA Clearance Officer, 1775 Duke Street, Alexandria, VA 22314, Suite 5067, or email at PRAComments@ncua.gov.

FOR FURTHER INFORMATION CONTACT:

Copies of the submission may be obtained by emailing PRAComments@ncua.gov or viewing the entire information collection request at www.reginfo.gov.

SUPPLEMENTARY INFORMATION:

OMB Number: 3133-0103.

Title: Disclosure and Recordkeeping Requirements under Regulation B (Equal Credit Opportunity Act, 12 CFR part 1002); Regulation E (Electronic Fund Transfers, 12 CFR part 1005); Regulation M (Consumer Leasing, 12 CFR part 1013); and Regulation CC (Availability of Funds and Collection of Checks, 12 CFR part 229).

Abstract: The third party disclosure and recordkeeping requirements in this collection are required by statute and regulation. The regulations prescribe certain aspects of the credit application and notification process, making certain disclosures, uniform methods for computing the costs of credit, disclosing credit terms and cost, resolving errors on certain types of credit accounts, and timing requirements and disclosures relating to the availability of deposited funds.

Type of Review: Reinstatement with change of a previously approved collection.

Affected Public: Private Sector: Not-for-profit institutions; Individuals or Households.

Estimated Total Annual Burden Hours: 3,245,905.

By Gerard Poliquin, Secretary of the Board, the National Credit Union Administration, on November 18, 2016.

Dated: November 18, 2016.
Dawn D. Wolfgang,
NCUA PRA Clearance Officer.

[FR Doc. 2016-28266 Filed 11-22-16; 8:45 am]

BILLING CODE 7535-01-P